DEPARTMENT OF TRANSPORTATION

Surface Transportation Board

[STB Ex Parte No. 290 (Sub No. 5) (2000-2)]

Quarterly Rail Cost Adjustment Factor

AGENCY: Surface Transportation Board.

ACTION: Approval of rail cost adjustment factor.

SUMMARY: The Board has approved the second quarter 2000 rail cost adjustment factor (RCAF) and cost index filed by the Association of American Railroads. The second quarter 2000 RCAF (Unadjusted) is 1.050. The second quarter 2000 RCAF (Adjusted) is 0.593. The second quarter 2000 RCAF-5 is 0.577.

EFFECTIVE DATE: April 1, 2000.

FOR FURTHER INFORMATION CONTACT: H. Jeff Warren, (202) 565-1533. TDD for the hearing impaired: (202) 565-1695.

SUPPLEMENTARY INFORMATION: Additional information is contained in the Board's decision. To purchase a copy of the full decision, write to, call, or pick up in person from: DAY TO DAY OFFICE SOLUTIONS, Suite 210, 1925 K Street, NW, Washington, DC 20423-0001, telephone (202) 289-4357. [Assistance for the hearing impaired is available through TDD services (202) 565-1695.]

This action will not significantly affect either the quality of the human environment or energy conservation.

Pursuant to 5 U.S.C. 605(b), we conclude that our action will not have a significant economic impact on a substantial number of small entities within the meaning of the Regulatory Flexibility Act.

Decided: March 20, 2000.
By the Board, Chairman Morgan, Vice Chairman Burkes, and Commissioner Clyburn.
Vernon A. Williams,
Secretary.

[FR Doc. 00-7329 Filed 3-23-00; 8:45 am]

BILLING CODE 4915-00-P